DEPARTMENT OF THE INTERIOR

Bureau of Reclamation

[DES 05-55]

San Luis Unit Long-Term Contract Renewal

AGENCY: Bureau of Reclamation, Interior.

ACTION: Notice of availability of the Draft Environmental Impact Statement (DEIS).

SUMMARY: Pursuant to the National Environmental Policy Act (NEPA) of 1969 (as amended), the Bureau of Reclamation (Reclamation) has made available for public review and comment a DEIS for the renewal of Long-Term Water Service Contracts for the San Luis Unit of the Central Valley Project (CVP). The DEIS describes and presents the environmental effects of three altern atives, including no action, for implementing the renewal of the Long-Term Water Service Contracts. A 45-day public comment period will be allowed to receive comments from individuals and organizations on the DEIS.

Reclamation issued a previous version of the DEIS on December 9, 2004 (69 FR 71424). Due to information received during the comment period on the previous DEIS, Reclamation has prepared and is issuing a new DEIS.

DATES: The DEIS is available for a 45-day public review period. Written comments on the DEIS will be accepted on or before November 21, 2005.

ADDRESSES: Send comments on the Draft EIS to Bureau of Reclamation, Mid-Pacific Region, Attn: Joe Thompson, 1243 “N” Street, Fresno, CA 93644.

Copies of the Draft EIS may be requested from Ms. Janet Sierzputowski, Reclamation, 2800 Cottage Way, Sacramento, CA 95825, or by calling (916) 978-5112. See SUPPLEMENTARY INFORMATION section for locations where copies of the DEIS are available for public inspection.

FOR FURTHER INFORMATION CONTACT: Joe Thompson, Environmental Specialist, Reclamation, at (559) 487-5179.

SUPPLEMENTARY INFORMATION: The DEIS addresses impacts related to the renewal of long-term water service contracts between Reclamation and the contractors in the San Luis Unit. The alternatives present a range of water service agreement provisions that could be implemented for long-term contract renewals. The first alternative, the No-Action Alternative, consists of renewing water service contracts as described by the preferred alternative of the Programmatic Environmental Impact statement for the Central Valley Project Improvement Act. The No-Action Alternative serves as the basis for determining impacts of the action alternatives. A proposal by Reclamation was submitted to the contractors in 1999 with an alternative contract being submitted by the contractors in 2000. Reclamation and the Contractors have negotiated in a public forum the CVP-wide terms and conditions with these proposals serving as the basis for analysis of such “bookends.” The contract provisions that were selected as a result of the negotiation process together constitute the Preferred Alternative. The Preferred Alternative is described in the Alternatives section of the DEIS. The DEIS evaluates the Preferred Alternative against the No-Action Alternative for the environmental documentation that evaluates the impacts and benefits of renewing the long-term water service contracts.

Copies of the DEIS are available for public inspection and review at the following locations:

• Bureau of Reclamation, Denver Office Library, Building 67, Room 167, Denver Federal Center, 6th and Kipling, Denver, CO 80225; telephone: (303) 445-2072.

• Bureau of Reclamation, Office of Public Affairs, 2800 Cottage Way, Sacramento, CA 95825-1898; telephone: (916) 978-5100.

• Bureau of Reclamation, South Central California Area Office, 1243 “N” Street, Fresno, CA 93721.

• Natural Resources Library, U.S. Department of the Interior, 1849 C Street, NW., Main Interior Building, Washington, DC 20240-0001.

The DEIS is also available for inspection in public libraries in Fresno, Madera, Merced, Kings, Stanislaus, and Kern counties.

Oral and written comments, including names and home addresses of respondents, will be available for public review. Individual respondents may request that we withhold their home address from public disclosure, which will be honored to the extent allowable by law. There may be circumstances in which a respondent's identity may also be withheld from public disclosure, as allowable by law. If you wish to have your name and/or address withheld, you must state this prominently at the beginning of your comment. All submissions from organizations or businesses, and from individuals identifying themselves as representatives or officials of organizations or businesses, will be made available for public disclosure in their entirety.

Dated: July 19, 2005.
Allan Oto,
Acting Assistant Regional Director, Mid-Pacific Region.

[FR Doc. 05-19603 Filed 9-29-05; 8:45 am]

BILLING CODE 4310-MN-P